DEPARTMENT OF TRANSPORTATION

Office of the Secretary

Notice of Applications for Certificates of Public Convenience and Necessity and Foreign Air Carrier Permits Filed Under Subpart B (Formerly Subpart Q) Filed With the Department Between December 15, 2003 and January 9, 2004

The following Applications for Certificates of Public Convenience and Necessity and Foreign Air Carrier Permits were filed under subpart B (formerly subpart Q) of the Department of Transportation's Procedural Regulations (see 14 CFR 301.201 et seq.). The due date for Answers, Conforming Applications, or Motions To Modify Scope are set forth below for each application. Following the Answer Period DOT may process the application by expedited procedures. Such procedures may consist of the adoption of a show-cause order, a tentative order, or in appropriate cases a final order without further proceedings.

Applications filed during week ending December 19, 2003:

Docket Number: OST-2003-16767.

Date Filed: December 18, 2003.

Due Date for Answers, Conforming Applications, or Motion to Modify Scope: January 8, 2004.

Description: Application of Spirit Airlines, Inc., pursuant to 49 U.S.C. 41102, 41108 and subpart B, requesting issuance of a certificate of public convenience and necessity authorizing Spirit to provide scheduled foreign air transportation of persons, property, and mail between any point in the United States, on the one hand, and any point or points in the countries listed in Exhibit 1.

Docket Number: OST-2003-16773.

Date Filed: December 19, 2003.

Due Date for Answers, Conforming Applications, or Motion to Modify Scope: January 9, 2004.

Description: Application of Ameristar Air Cargo, Inc. d/b/a Ameristar Charters, pursuant to 49 U.S.C. 41102 and subpart B, requesting a certificate of public convenience and necessity authorizing Ameristar to provide interstate charter air transportation of persons, property and mail.

Docket Number: OST-2003-16774.

Date Filed: December 19, 2003.

Due Date for Answers, Conforming Applications, or Motion to Modify Scope: January 9, 2004.

Description: Application of Ameristar Air Cargo, Inc. d/b/a Ameristar Charters, pursuant to 49 U.S.C. 41102 and subpart B, requesting a certificate of public convenience and necessity authorizing Ameristar to engage in foreign charter air transportation of persons.

Applications filed during week ending December 26, 2003:

Docket Number: OST-2003-16783.

Date Filed: December 22, 2003.

Due Date for Answers, Conforming Applications, or Motion to Modify Scope: January 12, 2004.

Description: Application of Arkia Israeli Airlines, Ltd., pursuant to 49 U.S.C. 41302, 14 CFR part 211 and subpart B, requesting a foreign air carrier permit authorizing it to engage in the charter foreign air transportation of persons, property, and mail between a point or points in Israel, on the one hand, and a point or points in the United States, on the other hand, either directly or via intermediate points in other countries, with or without stopovers (for technical purposes) and beyond, as authorized by the August 16, 1978 Protocol to the June 13, 1950 Air Transport Agreement.

Docket Number: OST-2003-16812.

Date Filed: December 24, 2003.

Due Date for Answers, Conforming Applications, or Motion to Modify Scope: January 14, 2004.

Description: Application of PSA Airlines, Inc., d/b/a US Airways Express, pursuant to 49 U.S.C. 41102 and subpart B, requesting a certificate of public convenience and necessity authorizing it to engage in interstate scheduled air transportation of persons, property and mail with large aircraft.

Docket Number: OST-2003-16813.

Date Filed: December 24, 2003.

Due Date for Answers, Conforming Applications, or Motion to Modify Scope: January 14, 2004.

Description: Application of PSA Airlines, Inc. d/b/a US Airways Express, pursuant to 49 U.S.C. 41102 and subpart B, requesting a certificate of public convenience and necessity authorizing it to engage in foreign scheduled air transportation of persons, property, and mail with large aircraft, operating as US Airways Express.

Applications filed during week ending January 2, 2004:

Docket Number: OST-2003-16831.

Date Filed: December 30, 2003.

Due Date for Answers, Conforming Applications, or Motion to Modify Scope: January 20, 2004.

Description: Application of Pullmantur Air, S.A., pursuant to section 402 and subpart B, requesting a foreign air carrier permit authorizing it to engage in charter foreign air transportation of persons, property, baggage, cargo, and mail between any point or points in the Kingdom of Spain and any point or points in the United States, together with authority to engage in other charter trips in foreign air transportation, subject to the terms, conditions and limitations of the Department's Economic Regulations.

Docket Number: OST-2003-16842.

Date Filed: December 31, 2003.

Due Date for Answers, Conforming Applications, or Motion to Modify Scope: January 21, 2004.

Description: Application of Aero Services—Corporate S.A., pursuant to 49 U.S.C. 41301 and subpart B, requesting an initial foreign air carrier permit to engage in charter foreign air transportation of persons, property, and mail between France and the United States and between the United States and third countries in accordance with and to the full extent authorized by the U.S.-France Air Transport Agreement.

Docket Number: OST-2003-16843.

Date Filed: December 31, 2003.

Due Date for Answers, Conforming Applications, or Motion to Modify Scope: January 21, 2004.

Description: Application of Aero Services—Executive S.A., pursuant to 49 U.S.C. 41301 and subpart B, requesting an initial foreign air carrier permit to engage in charter foreign air transportation of persons, property, and mail between France and the United States and between the United States and third countries in accordance with and to the full extent authorized by the U.S.-France Air Transport Agreement.

Applications filed during week ending January 9, 2004:

Docket Number: OST-2003-16690.

Date Filed: January 7, 2004.

Due Date for Answers, Conforming Applications, or Motion to Modify Scope: January 16, 2004.

Description: Application of Arrow Air, Inc., pursuant to the Department's Notice and 49 U.S.C. 41101 and 41102 and Subpart B, requesting a certificate of public convenience and necessity to engage in scheduled all-cargo foreign air transportation of property and mail between a point or points in the United States and a point or points in Brazil, to integrate the authority with its existing certificate and exemption authority and to commingle traffic consistent with applicable aviation agreements.

Docket Number: OST-2003-16690.

Date Filed: January 7, 2004.

Due Date for Answers, Conforming Applications, or Motion to Modify Scope: January 16, 2004.

Description: Application of Amerijet International, Inc., pursuant to the Department's Notice 49 U.S.C. chapter 411 and subparts B and C, requesting a certificate of public convenience and necessity and request for an allocation of frequencies authorizing it to provide scheduled foreign air transportation of property and mail between the United States and Brazil.

Andrea M. Jenkins,
Program Manager, Docket Operations, Federal Register Liaison.

[FR Doc. 04-1926 Filed 1-28-04; 8:45 am]

BILLING CODE 4910-62-P